DEPARTMENT OF THE TREASURY

Submission for OMB Review; Comment Request

April 22, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before May 28, 2009 to be assured of consideration.

Internal Revenue Service (IRS)

OMB Number: 1545-2122.

Type of Review: Revision.

Form: 8931.

Title: Form 8931, Agricultural Chemicals Security Credit.

Description: This is a new form for tax year 2008 in response to Public Law 110-246 Section 15343. To allow taxpayers to calculate credits against income tax allowed by new provisions in law.

Respondents: Businesses or other for-profits.

Estimated Total Burden Hours: 389,330 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-9597 Filed 4-27-09; 8:45 am]

BILLING CODE 4830-01-P